INTERNATIONAL TRADE COMMISSION

[Investigation No. 337-TA-1273]

Certain Residential Premises Security Monitoring and Automation Panels, and Components Thereof; Notice of Commission Determination Not To Review an Initial Determination of Non-Infringement; Termination of the Investigation

AGENCY: U.S. International Trade Commission.

ACTION: Notice.

SUMMARY: Notice is hereby given that the U.S. International Trade Commission has determined not to review an initial determination (“ID”) (Order No. 18) of the presiding administrative law judge (“ALJ”) granting summary determination of no violation based on non-infringement of the asserted patent claims. The investigation is terminated.

FOR FURTHER INFORMATION CONTACT: Robert Needham, Office of the General Counsel, U.S. International Trade Commission, 500 E Street SW, Washington, DC 20436, telephone (202) 205-2392. Copies of non-confidential documents filed in connection with this investigation may be viewed on the Commission's electronic docket (EDIS) at https://edis.usitc.gov. For help accessing EDIS, please email EDIS3Help@usitc.gov. General information concerning the Commission may also be obtained by accessing its internet server at https://www.usitc.gov. Hearing-impaired persons are advised that information on this matter can be obtained by contacting the Commission's TDD terminal on (202) 205-1810.

SUPPLEMENTARY INFORMATION: On August 5, 2021, the Commission instituted this investigation under section 337 of the Tariff Act of 1930, as amended, 19 U.S.C. 1337 (“section 337”), based on a complaint filed by ADT LLC and the ADT Security Corporation, both of Boca Raton, Florida, (collectively, “ADT”). 86 FR 42879-80. The complaint, as supplemented, alleges a violation of section 337 based upon the importation into the United States, sale for importation, or sale after importation into the United States of certain residential premises security monitoring and automation control panels, and components thereof by reason of infringement of claims 1 and 12 of U.S. Patent No. 8,976,937 (“the '937 patent”) and claims 1-4, 7-15, and 18-20 of U.S. Patent No. 9,286,772 (“the '772 patent”). Id. at 42880. The complaint also alleges the existence of a domestic industry. The notice of investigation names as a respondent Vivint, Inc., of Provo, Utah (“Vivint”). Id. The Office of Unfair Import Investigations (“OUII”) is also a party to the investigation. 87 FR 476 (Jan. 5, 2022).

The Commission subsequently terminated the investigation with respect to all asserted claims of the '937 patent and claims 1, 7-12, and 18-20 of the '772 patent based on withdrawal of the complaint as to those claims. Order No. 10 (Dec. 17, 2021), unreviewed by Notice (Jan. 18, 2022); Order No. 15 (Mar. 21, 2022), unreviewed by Notice (Apr. 12, 2022). Claims 2, 3, and 4 of the '772 patent are therefore the only claims that remain in the investigation.

On March 10, 2022, Vivint moved for a summary determination pursuant to Commission Rule 210.18 (19 CFR 210.18) of no violation of section 337 based on invalidity, and alternatively, non-infringement. Vivint argued that the “processor” limitations of the asserted claims should be construed to allow those limitations to be satisfied by multiple processors, and that under that construction, all the asserted claims are invalid as anticipated by U.S. Patent Pub. No. 2010/0102171. Vivint alternatively argued that, if the “processor” limitations of the asserted claims are construed to require that a single processor must satisfy all of the “processor” limitations, none of the accused products infringe the asserted claims because no single processor satisfies all the “processor” limitations.

On March 21, 2022, ADT filed a response opposing the motion, arguing that the “processor” limitations require a single processor, but contending that the accused products contained a processor that satisfied all the limitations. On March 28, OUII filed a response in support of the motion, arguing that the “processor” limitations require at least one processor that satisfies all the “processor” limitations and that the accused products do not infringe because they do not contain a processor that satisfies all of the “processor” limitations. On March 24, 2022, and March 31, 2022, Vivint filed replies to ADT's and OUII's responses, respectively.

On April 22, 2022, the ALJ issued the subject ID (Order No. 18) pursuant to Commission Rules 210.18(b) and 210.42(c) (19 CFR 210.18(b), 210.42(c)), granting in part Vivint's motion and finding summary determination of no violation because ADT failed to establish that the accused products infringe any asserted claim. The ID finds that the “processor” limitations require at least one processor that satisfies all of the “processor” limitations, and that ADT failed to show that the accused products contain a “processor” that satisfies all the “processor” limitations.

On May 4, 2022, ADT filed a petition for review of the ID. Also on May 4, 2022, Vivint filed a contingent petition for review of the ID. On May 9, 2022, Vivint responded to ADT's petition, and on May 11, 2022, ADT responded to Vivint's contingent petition for review. Also on May 11, 2022, OUII responded to both petitions.

The Commission has determined not to review the subject ID. The investigation is hereby terminated with a finding of no violation.

The Commission vote for this determination took place on June 8, 2022.

The authority for the Commission's determination is contained in section 337 of the Tariff Act of 1930, as amended (19 U.S.C. 1337), and in part 210 of the Commission's Rules of Practice and Procedure (19 CFR part 210).

By order of the Commission.
Issued: June 8, 2022.
Lisa Barton,
Secretary to the Commission.

[FR Doc. 2022-12802 Filed 6-13-22; 8:45 am]

BILLING CODE 7020-02-P